FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than April 11, 2024.

A. Federal Reserve Bank of Kansas City (Jeffrey Imgarten, Assistant Vice President) 1 Memorial Drive, Kansas City, Missouri, 64198-0001. Comments can also be sent electronically to KCApplicationComments@kc.frb.org:

1. Too Many Investors, LLC and Dallen Jon (D.J.) Hogstad, both of Comanche, Oklahoma; to become members of the Hogstad Control Group, a group acting in concert, to retain voting shares of Commerce Financial Company, and thereby indirectly retain voting shares of Bank of Commerce, both of Duncan, Oklahoma.

2. PBI Trust 35, Thomas S. Dinsdale, as trustee, both of Grand Island, Nebraska; to become members of the Dinsdale Family group, a group acting in concert, to retain voting shares of Pinnacle Bancorp, Inc., Omaha, Nebraska, and thereby indirectly retain voting shares of Pinnacle Bank, Lincoln, Nebraska; Pinnacle Bank, Fort Worth, Texas; Pinnacle Bank—Wyoming, Cody, Wyoming; and Bank of Colorado, Fort Collins, Colorado.

Board of Governors of the Federal Reserve System.
Michele Taylor Fennell,
Deputy Associate Secretary of the Board.

[FR Doc. 2024-06496 Filed 3-26-24; 8:45 am]

BILLING CODE P